DEPARTMENT OF LABOR

Employment and Training Administration

Notice of a Change in Status of the Extended Benefit (EB) Program for New Mexico

AGENCY: Employment and Training Administration, Labor.

ACTION: Notice; correction.

SUMMARY: The Department of Labor's (DOL) Employment and Training Administration (ETA) published in the Federal Register on April 27, 2021, concerning New Mexico's EB change. On March 17, 2021, New Mexico Senate Bill 52 was enacted authorizing the use of the optional TUR trigger to determine New Mexico's EB status, and based on data released on March 15, 2021 by BLS, the seasonally-adjusted 3-month average total unemployment rate (TUR) for New Mexico rose above the 8.0 percent threshold necessary to trigger “on” to a High Unemployment Period for EB. However, in New Mexico, with the exception of general appropriation legislation, laws go into effect 90 days after date of enactment. This delay was not originally considered, and the original Federal Register Notice published on April 27, 2021 (86 FR 22268) contained an incorrect status change for New Mexico. Therefore, DOL is issuing this correction.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

SUPPLEMENTARY INFORMATION:

Correction

The New Mexico State Constiution stipulates that unless otherwise specified, legislation becomes effective 90 days after date of enactment. As such, New Mexico Senate Bill 52 authorizing the use of the optional TUR trigger to determine New Mexico's EB status does not become effective until June 18, 2021. Therefore, New Mexico's EB status preceding June 18, 2021 should not have considered the optional TUR trigger and New Mexico's EB status is corrected to reflect that due to the insured unemployment rate in the state droping below 5.0 percent for the week ending March 13, 2021, New Mexico triggered “off” EB effective April 3, 2021.

Signed in Washington, DC.
Suzan G. LeVine,
Principal Deputy Assistant Secretary for Employment and Training, Labor.

[FR Doc. 2021-13305 Filed 6-23-21; 8:45 am]

BILLING CODE 4510-FW-P